DEPARTMENT OF JUSTICE

National Institute of Corrections

Solicitation for a Cooperative Agreement—Corrections-Specific Resources for Extended Stakeholder Audiences

AGENCY: National Institute of Corrections, U.S. Department of Justice.

ACTION: Solicitation for a cooperative agreement.

SUMMARY: The National Institute of Corrections (NIC) is soliciting proposals from organizations, groups, or individuals to enter into a cooperative agreement for an 18-month period to begin no later than September 15, 2013. Work under this cooperative agreement will involve the development of a series of resources dedicated to addressing the corrections-specific frequently asked questions of its extended stakeholder audiences, including family and community-based constituency groups. Sample content may include original feature writing, creation of fact sheets, audio podcasts, videos, and/or photography. This project will be a collaborative venture with the NIC Research and Information Services Division.

NIC Opportunity Number: 13RE3. This number should appear in the reference line in your cover letter, on Standard Form 424 in section 11 with the title of your proposal, and in the right justified header of your proposal.

Number of Awards and Funds Available: Under this solicitation, one or more awards will be made. The total amount of funds available under this solicitation is $50,000.00.

Applications: All applicants must be submitted electronically via http://www.grants.gov. Hand delivered, mailed, faxed, or emailed applications will not be accepted.

DATES: Applications must be submitted before midnight on Monday, July 1, 2013.

Authority: Public Law 93-415.

Eligibility of Applicants: An eligible applicant is any public or private agency, educational institution, organization, individual or team with expertise in the described areas.

SUPPLEMENTARY INFORMATION:

Background: Under United States Public Law 93-415, the National Institute of Corrections was assigned with authority by Congress to “serve as a clearinghouse and information center for the collection, preparation, and dissemination of information on corrections.” By this authority, the National Institute of Corrections has become one of the largest national repositories for corrections-related information. Under this cooperative agreement, the awardee will develop materials designed to provide corrections-related information to extended stakeholder audiences.

Providing these resources will help reduce misconceptions among stakeholders about the nature and role of corrections in a community, as part of a local government structure, and as a participant in ensuring the public safety, public health, and general welfare of citizens. In addition, these resources will help correctional audiences, their stakeholders, and related community partners make informed choices in the future about the correctional laws and policies in their local area that affect them.

A proposal responsive to this solicitation should, at a minimum, include evidence of understanding that making accurate information available about the criminal justice system can help increase knowledge among stakeholders about corrections and related criminal justice operations. A proposal should also include evidence of the ability to create content, such as original feature writing, fact sheets, audio podcasts, videos, mobile apps, interactive maps, and/or photography, etc. that can be used as part of a systematic public education program.

Experience in corrections or a journalism-related occupation is not required. Most valued is an applicant's ability to translate criminal justice information accurately in plain language for the general public. The ability to write long-form as well as shorter pieces of content is required. The applicant must have a firm command of writing skills, fact gathering, and research.

In addition, expertise in some aspect of media production (Web, mobile, broadcast, social media, etc.) is required. The applicant must be able to supply material, such as audio, photo, video, mobile application, etc., to “advance the story,” giving those who read feature material an opportunity to engage actively and in depth with a topic.

A proposal should also reveal the applicant's ability and experience in working under weekly or daily deadlines and adhering to regular content development schedules.

Scope of work: Tasks to be performed through this cooperative agreement include (1) conducting background research using primary and secondary sources, (2) writing original content in a consumer friendly style, (3) developing interactive content, such as video, podcast, mobile application, or other multimedia material, (4) revising material as needed to adhere to agency specifications, (5) surveying current topics in corrections and proposing items to cover, and (6) planning and adhering to a content development schedule created in consultation with NIC staff.

This project will be completed in conjunction with the NIC Research and Information Services Division; however, the awardee will be expected to work closely with all NIC staff and contractors as needed on all aspects of the project.

The awardee will participate in an initial meeting with designated NIC staff for a project overview and preliminary planning. Additionally, the awardee will meet routinely with NIC staff to discuss the activities noted in the project timeline submitted during the course of the cooperative agreement. Meetings will be held weekly and may be conducted via telephone, webinar, and/or videoconference with at least one onsite as agreed upon by NIC and the awardee. Some travel expenses may be covered by NIC and therefore are negotiable depending on the meeting and/or awardee's location.

Deliverables: Deliverables expected be produced under this cooperative agreement include at a minimum (1) a final report that summarizes the project and provides recommendations for follow up work, (2) 52 weeks of weekly feature articles (800 to 2,500 words) (content only) describing or explaining concepts in corrections, (3) 26 weeks of bi-weekly media (such as audio, photo, video, mobile application, etc.) supporting feature content, (4) 12 months of monthly fact sheets (content only) describing or explaining concepts in corrections.

FOR FURTHER INFORMATION CONTACT: All technical or programmatic questions concerning this announcement should be directed to Donna Ledbetter, Writer/Editor, National Institute of Corrections, who may be reached by email at dledbetter@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” (13RE3) and title in this announcement, “Corrections-Specific Resources for Extended Stakeholder Audiences”. The package must include: a cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Large attachments to the proposal describing the organization or examples of other past work are discouraged.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf).

Failure to supply all required forms with the application package may result in disqualification of the application from consideration.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished, including major sub-tasks, the strategies to be employed, required staffing, and other required resources? Are there any innovative approaches, techniques, or design aspects proposed that will enhance the project?

Organizational (35%)

Does the proposed project staff possess the skills, knowledge, and expertise necessary to complete the tasks listed under the scope of work? Does the applicant organization, group, or individual have the organizational capacity to achieve all project tasks? Are the proposed project management and staffing plans realistic and sufficient to complete the project within the project time frame?

Project Management/Administration (25%)

Does the applicant identify reasonable objectives, milestones, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions; Subpart C, Functional Performance Criteria; and Subpart D, Documentation and Support. NIC's government product accessibility template (see www.nicic.gov/section508) outlines the agency's minimum criteria for meeting this requirement; a completed form attesting to the accessibility of project deliverables should accompany all submissions.

Note Concerning Catalog of Federal Domestic Assistance Number: This number should be entered in section 10 of the Application for Federal Assistance (SF-424). You should enter 16.602 (Research and Policy Formulation) in section 10 of the SF-424. You are not subject to the provisions of Executive Order 12372 and should check Box b. in section 16.

Robert Brown, Jr.
Acting Director, National Institute of Corrections.

[FR Doc. 2013-13952 Filed 6-11-13; 8:45 am]

BILLING CODE 4410-36-P